DEPARTMENT OF ENERGY

Federal Energy Regulatory Commission

[Docket No. CP16-488-000]

Natural Gas Pipeline Company of America, LLC; Notice of Schedule for Environmental Review of the Gulf Coast Expansion Project

On August 1, 2016, Natural Gas Pipeline Company of America, LLC (Natural) filed an application in Docket No. CP16-488-000 requesting a Certificate of Public Convenience and Necessity pursuant to Section 7(b) and (c) of the Natural Gas Act to construct and abandon certain natural gas pipeline facilities. The proposed project is known as the Gulf Coast Expansion Project (Project) and would involve construction and abandonment of facilities in Wharton and Cass Counties, Texas, to transport 460,000 dekatherms per day of natural gas supplies to an existing delivery point in the South Texas Gulf Coast area.

On August 12, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—April 21, 2017.

90-day Federal Authorization Decision Deadline—July 20, 2017.

If a schedule change becomes necessary, additional notice will be provided so that the relevant agencies are kept informed of the Project's progress.

Project Description

The proposed Project consists of construction and operation of a new 15,900 horsepower (hp) compressor station (CS 394) and an approximately 4,000-foot-long, 30-inch-diameter lateral connecting to Natural's Amarillo to Gulf Coast Pipeline all located in Cass County, Texas. In addition, Natural is requesting approval to abandon in place two 3,800 hp compressor units at its existing Compressor Station 301 located in Wharton County, Texas.

Background

On September 14, 2016, the Commission issued a Notice of Intent To Prepare an Environmental Assessment for the Proposed Gulf Coast Expansion Project and Request for Comments on Environmental Issues (NOI). The NOI was sent to affected landowners; federal, state, and local government agencies; elected officials; environmental and public interest groups; Native American tribes; other interested parties; and local libraries and newspapers. In response to the NOI, the Commission received comments from Texas Parks & Wildlife regarding fish and wildlife resources. In addition, we received comments from Indian tribes requesting notification of inadvertent discoveries during construction and also requested a cultural resources survey be conducted.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP16-488), and follow the instruction. For assistance with access to eLibrary, the helpline can be reached at (866) 208-3676, TTY (202) 502-8659, or at FERCOnlineSupport@ferc.gov. The eLibrary link on the FERC Web site also provides access to the texts of formal documents issued by the Commission, such as orders, notices, and rule makings.

Dated: March 10, 2017.
Kimberly D. Bose,
Secretary.

[FR Doc. 2017-05307 Filed 3-16-17; 8:45 am]

BILLING CODE 6717-01-P